ENVIRONMENTAL PROTECTION AGENCY

[FRL-7890-2]

Clean Air Act Operating Permit Program; Petitions for Objection to State Operating Permits for Four San Francisco Bay Area Refineries: Chevron Products Company, ConocoPhillips Company, Tesoro Refining and Marketing Co., and Valero Refining Co.

AGENCY: Environmental Protection Agency (EPA).

ACTION: Notice of final orders on five petitions to object to four state operating permits.

SUMMARY: This notice announces that the EPA Administrator has responded to five citizen petitions requesting EPA to object to operating permits issued to four facilities by the Bay Area Air Quality Management District (BAAQMD). The Administrator has (1) denied in full a petition submitted by Plumbers and Steamfitters Union Local 342, Heat and Frost Insulators/Asbestos Workers Local 16, the International Brotherhood of Electrical Workers Local 302, the Boilermakers Union Local 549 and the Laborers Union Local 324 (Unions) requesting that the Administrator object to the state operating permit issued to Chevron Products Company (Chevron) in Richmond, California; (2) partially granted and partially denied two petitions submitted by Communities for a Better Environment (CBE) requesting that the Administrator object to the state operating permits issued to Chevron in Richmond, California, and ConocoPhillips Company (Conoco) in Rodeo, California; and (3) partially granted and partially denied two petitions submitted by Our Children's Earth Foundation (OCE) requesting that the Administrator object to the state operating permits issued to Tesoro Refining and Marketing Co. (Tesoro) in Martinez, California, and Valero Refining Co. in Benicia, California (Valero).

Pursuant to section 505(b)(2) of the Clean Air Act (Act), the petitioners may seek judicial review of any portion of the petitions which EPA denied in the United States Court of Appeals for the Ninth Circuit. Any petition for review shall be filed within 60 days from the date this notice appears in the Federal Register, pursuant to section 307 of the Act.

ADDRESSES: Copies of the final orders, petitions, and other supporting information are available at the Environmental Protection Agency, Region IX, Air Division, 75 Hawthorne Street, San Francisco, CA 94105. The final orders are also available electronically at: http://www.epa.gov/region07/programs/artd/air/title5/petitiondb/petitions.

FOR FURTHER INFORMATION CONTACT: Gerardo Rios, Chief, Air Permits Office, EPA Region IX, telephone (415) 972-3974, e-mail r9airpermits@epa.gov.

SUPPLEMENTARY INFORMATION: EPA approves state and local permitting authorities to administer the operating permit program set forth in title V of the Clean Air Act, 42 U.S.C. 7661-7661f. BAAQMD administers a fully approved title V operating permit program. The Clean Air Act affords EPA the opportunity for a 45-day period to review, and object to as appropriate, operating permits proposed by permitting authorities. Section 505(b)(2) of the Act authorizes any person to petition the EPA Administrator within 60 days after the expiration of this review period to object to a state operating permit if EPA has not done so. Petitions must be based on objections to the permit that were raised with reasonable specificity during the public comment period provided by the state, unless the petitioner demonstrates that it was impracticable to raise these issues during the comment period or the grounds for the issues arose after this period.

BAAQMD submitted proposed permits to EPA on August 25, 2004 (Chevron and Conoco) and August 26, 2004 (Tesoro and Valero). EPA received five petitions to object to the permits (two petitions for the Chevron permit, and one each for Conoco, Tesoro, and Valero) prior to the deadline for section 505(b)(2) petitions.

On March 15, 2005, the Administrator issued one order denying in full the petition submitted by Unions requesting the Administrator to object to the permit for Chevron; two orders partially granting and partially denying the petitions submitted by CBE requesting the Administrator to object to the permits for Chevron and Conoco; and two orders partially granting and partially denying the petitions submitted by OCE requesting the Administrator to object to the permits for Tesoro and Valero. These orders explain the reasons behind EPA's decisions to grant or deny each issue.

Dated: March 15, 2005.
Wayne Nastri,
Regional Administrator, Region 9.

[FR Doc. 05-6195 Filed 3-28-05; 8:45 am]

BILLING CODE 6560-50-P